DEPARTMENT OF ENERGY

Bonneville Power Administration

Klondike III/Biglow Canyon Wind Integration Project

AGENCY: Bonneville Power Administration (BPA), Department of Energy (DOE).

ACTION: Notice of Extension of Comment Period for an Environmental Impact Statement (EIS).

SUMMARY: This notice extends the close of comment for scoping from the previously published May 13, 2005 to January 5, 2006. BPA is preparing its Klondike III/Biglow Canyon Wind Integration EIS under the National Environmental Policy Act (NEPA). BPA is currently considering a proposed interconnection requested by PPM Energy, Inc. (PPM), to integrate electrical power from their proposed Klondike III Wind Project into the Federal Columbia River Transmission System (FCRTS). The EIS will now also include a proposed interconnection requested by an additional wind developer, Orion Energy, LLC (Orion) to integrate electrical power from their proposed Biglow Canyon Wind Farm Project. BPA published a NOI to prepare an EIS for the Klondike III Wind Project in the Federal Register on February 11, 2005. After receiving comments during the scoping period that suggested combining the interconnections of these two projects, and receiving an interconnection request from Orion, BPA has decided to include both projects in the same EIS and change the name of the EIS to Klondike III/Biglow Canyon Wind Integration Project EIS. Both proposed wind projects are located in Sherman County, Oregon. BPA proposes to execute agreements with both developers to provide them with an interconnection for up to 700 megawatts (MW) of generation (300 MW from Klondike III, 400 MW from Biglow Canyon). Interconnection would require BPA to build and operate a new double-circuit 230-kilovolt (kV) transmission line, a new 230-kV substation, and to expand an existing 500-kV substation.

BPA also intends to consider the impacts of building another substation in the area. Because more local wind generation projects are expected to be constructed in the coming years, a substation is likely to be needed in this area to integrate them into BPA's transmission system; however, another substation is not needed at this time.

DATES: Written comments on the NEPA scoping process are due at the address below no later than January 5, 2006.

ADDRESSES: Send letters with comments and suggestions on the proposed scope of the Draft EIS and requests to be placed on the project mailing list to Bonneville Power Administration, Communications—DKP-7, P.O. Box 14428, Portland, OR 97293-4428. Comments may also be sent to the following Web site: http://www.transmission.bpa.gov/NewsEv/commentperiods.cfm.

Please refer to the Klondike III/Biglow Canyon Wind Integration Project EIS in all communications. Comments submitted at the previous scoping meetings or in writing do not have to be resubmitted.

FOR FURTHER INFORMATION CONTACT: Gene Lynard, Bonneville Power Administration—KEC-4, P.O. Box 3621, Portland, Oregon 97208-3621, toll-free telephone 1-800-622-4519; direct phone number 503-230-3790, fax number 503-230-5699, email gplynard@bpa.gov. Additional information can be found at BPA's Web site: http://www.efw.bpa.gov/environmental_services/Document_Library/Klondike/.

SUPPLEMENTARY INFORMATION:

Proposed Action. BPA proposes to execute an agreement with PPM to provide interconnection services for up to 300 MW from the Klondike III Wind Project. BPA also proposes to execute an agreement with Orion to provide interconnection services for up to 400 MW from the Biglow Canyon Wind Farm Project. As part of these agreements, BPA would agree to construct and operate an approximately 12-mile, double-circuit 230-kV transmission line that would interconnect the electricity from the wind projects to the FCRTS. BPA would also build and operate a new 230-kV substation, expand and place new equipment in BPA's existing John Day 500-kV Substation, and connect to two transmission lines built by PPM and Orion. Steel tubes and lattice steel towers are being considered for BPA's transmission line. The line and new 230-kV substation would be on privately-owned land that is primarily used for dryland wheat farming.

The EIS will also analyze a potential site for a future substation, not yet proposed, in the project area. A substation would likely be needed in the future for other wind development integration, but is not needed at this time.

In addition to these federal actions, the EIS will consider the reasonably foreseeable consequences from the construction and operation of the PPM's proposed Klondike III Wind Project and Orion's proposed Biglow Canyon Wind Farm Project.

The Klondike III Wind Project would be next to the currently operating Klondike Wind Project Phases I and II, on privately-owned land, mostly used for agriculture. Up to 165 additional wind turbines are proposed to be commercially operating by the end of 2007. The Klondike III Wind Project includes wind turbines, substations, access roads, and other project facilities. Siting of the proposed wind project is under the jurisdiction of Oregon Energy Facility Siting Council (EFSC), and PPM has applied for an EFSC Site Certificate.

The Biglow Canyon Wind Farm Project would be on privately-owned land mostly used for agriculture. Up to 225 wind turbines are proposed to be commercially operating by the end of 2007. The Biglow Canyon Wind Farm Project includes wind turbines, substation, access roads, and other project facilities. Siting of the proposed wind project is under the jurisdiction of EFSC, and Orion has applied for an EFSC Site Certificate.

Construction of the BPA transmission line, new 230-kV substation and the wind projects would commence in early 2007. The wind projects would be interconnected to BPA transmission lines in fall 2007, with a commercial operation date for the wind projects in 2007. Agricultural activities could continue to take place next to the transmission line structures and wind turbines. The wind projects would operate for much of each year for at least 20 years.

Possible Alternatives for BPA's Proposed Action. An alternative to the proposed action of offering interconnection contract terms is to not offer the terms requested. Thus, the EIS will evaluate this “no-action” alternative. In addition, the EIS will evaluate alternatives for routing the proposed BPA transmission line. At this time, at least two potentially feasible alternatives have been identified:

• The North Alternative; and

• The Middle Alternative (see attached Project Area Map).

Public Participation and Identification of Environmental Issues. BPA is the lead federal agency under NEPA for the EIS. BPA originally established a minimum of a 30-day scoping period during which affected landowners, Tribes, concerned citizens, special interest groups, local governments, state and federal agencies and any other interested parties were invited to comment on the scope of the proposed EIS. BPA extended this scoping period after reviewing the comments received by mail and at a public scoping meeting on March 1, 2005. After revising alternatives proposed for the transmission line route, BPA held a second public scoping meeting on April 27, 2005. Now that the second proposed wind project will be included in the EIS, BPA has reopened scoping to receive comments.

Scoping will help BPA identify potentially significant impacts that may result from BPA's proposed action and will help ensure that all relevant environmental issues related to BPA's proposed action are addressed in the EIS. Based on BPA's experience, potential environmental issues for the wind projects and BPA's interconnection facilities may include noise created by wind turbines, visual effects from the wind turbines and transmission line, socioeconomic impacts created by an influx of construction workers into a sparsely populated area, effects on recreation (primarily hunting), impacts on cultural resources, and impacts to wildlife habitat and populations, including migratory birds.

When completed, the Draft EIS will be circulated for review and comment, and BPA will hold a public comment meeting on the Draft EIS. In the Final EIS, BPA will consider and respond to comments received on the Draft EIS. BPA expects to publish the Final EIS in summer or early fall 2006. BPA's subsequent decision will be documented in a Record of Decision.

In addition to BPA's EIS process, Oregon EFSC provides opportunity for public participation as part of its site evaluation process. It is expected that public meetings for the projects will be held by representatives from the Oregon Office of Energy sometime in 2006. BPA will coordinate with Oregon EFSC to ensure full consideration of all public and agency comments received.

Stephen J. Wright,
Administrator and Chief Executive Officer.

[FR Doc. E5-6904 Filed 12-5-05; 8:45 am]

BILLING CODE 6450-01-P